NUCLEAR REGULATORY COMMISSION

[Docket No. 72-20; NRC-2017-0050]

U.S. Department of Energy; Three Mile Island 2 Independent Spent Fuel Storage Installation

AGENCY: Nuclear Regulatory Commission.

ACTION: License amendment application; issuance.

SUMMARY: The U.S. Nuclear Regulatory Commission (NRC) reviewed an application by the U.S. Department of Energy (DOE) for an amendment to Materials License No. SNM-2508, for the Three Mile Island 2 (TMI-2) independent spent fuel storage installation (ISFSI), located on the Idaho National Engineering Laboratory in Butte County, Idaho. The amendment revises the licensee delegation of authority in the license, the technical specifications, and the final safety analysis report. These documents currently delegate authority under the license to the Manager, DOE Idaho Operations Office. The amendment would replace that reference with the Deputy Manager, Idaho Cleanup Project in each of the documents.

DATES: Notice of issuance of amendment to Materials License No. SNM-2508 given on June 13, 2017.

ADDRESSES: Please refer to Docket ID NRC-2017-0050 when contacting the NRC about the availability of information regarding this document. You may obtain publicly-available information related to this document using any of the following methods:

• Federal Rulemaking Web site: Go to http://www.regulations.gov and search for Docket ID NRC-2017-0050. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Three Mile Island 2 license amendment request is available electronically in ADAMS under Accession No. ML16258A191.

• NRC's PDR: You may examine and purchase copies of public documents at the NRC's PDR, Room O1-F21, One White Flint North, 11555 Rockville Pike, Rockville, Maryland 20852.

FOR FURTHER INFORMATION CONTACT: Jose Cuadrado, Office of Nuclear Material Safety and Safeguards, U.S. Nuclear Regulatory Commission, Washington, DC 20555-0001; telephone: 301-415-0606; email: Jose.Cuadrado@nrc.gov.

SUPPLEMENTARY INFORMATION: By letter dated September 8, 2016, DOE submitted to the NRC an application to amend the Materials License No. SNM-2508 for the TMI-2 ISFSI, located on the Idaho National Engineering Laboratory in Butte County, Idaho (ADAMS Accession No. ML16258A191). Materials License No. SNM-2508 authorizes the licensee to receive, possess, store, and transfer canisters containing core debris and damaged spent nuclear fuel from the Three Mile Island Unit 2 (TMI-2) reactor, in addition to other authorized uses. The proposed amendment revises the licensee delegation of authority in the license, the technical specifications, and the final safety analysis report. These documents currently delegate authority under the license to the Manager, DOE Idaho Operations Office. The amendment would replace that reference with the Deputy Manager, Idaho Cleanup Project in each of the documents.

In a letter to DOE dated December 9, 2016, NRC notified DOE that the application was acceptable to begin a technical review (ADAMS Accession No. ML16347A192). In accordance with § 72.16 of title 10 of the Code of Federal Regulations (10 CFR), a notice of docketing was published in the Federal Register on February 22, 2017 (82 FR 11371).

The NRC prepared a safety evaluation report (SER) (ADAMS Accession No. ML17151A327) to document its review and evaluation of the amendment request. As further explained in the SER, the NRC has also determined that the license amendment is administrative in nature, and therefore satisfies the 10 CFR 51.22(c)(11) criteria for a categorical exclusion from the requirement to prepare an environmental impact statement. Under 10 CFR 51.22(c)(11), this action is eligible for categorical exclusion, because it is an amendment to a materials licenses which is administrative, organizational, or procedural in nature, or which results in a change in process operations or equipment, provided that (i) there is no significant change in the types or significant increase in the amounts of any effluents that may be released offsite, (ii) there is no significant increase in individual or cumulative occupational radiation exposure, (iii) there is no significant construction impact, and (iv) there is no significant increase in the potential for or consequences from radiological accidents. Consequently, an environmental assessment and finding of no significant impact are not required.

Upon completing its review, the NRC staff determined the request complies with the standards and requirements of the Atomic Energy Act of 1954, as amended (the Act), as well as the NRC's rules and regulations. The Commission has made appropriate findings as required by the Act and the Commission's rules and regulations in 10 CFR Chapter I, which are set forth in the license amendment. The NRC approved and issued Amendment No. 5 to Special Nuclear Materials License No. SNM-2508, held by DOE for the receipt, possession, transfer, and storage of spent fuel and associated radioactive materials at the TMI-2 ISFSI. Amendment No. 5 was effective as of the date of issuance.

In accordance with 10 CFR 72.46(b)(2), the NRC has determined that Amendment No. 5 does not present a genuine issue as to whether the health and safety of the public will be significantly affected. Therefore, the publication of a notice of proposed action and an opportunity for hearing or a notice of hearing is not warranted. Notice is hereby given of the right of interested persons to request a hearing on whether the action should be rescinded or modified.

Dated at Rockville, Maryland, this 25 day of May 2017.
For the Nuclear Regulatory Commission.
John McKirgan,
Chief, Spent Fuel Licensing Branch, Division of Spent Fuel Management, Office of Nuclear Material Safety and Safeguards.

[FR Doc. 2017-12137 Filed 6-12-17; 8:45 am]

BILLING CODE 7590-01-P